DEPARTMENT OF THE INTERIOR

Minerals Management Service

Outer Continental Shelf, Headquarters, Cape Wind Offshore Wind Development 2007

AGENCY: Minerals Management Service, Interior.

ACTION: Notice of Intent (NOI) to prepare an Environmental Impact Statement (EIS), request for written scoping comments and invitation for participation by cooperating agencies.

SUMMARY: The MMS has received a request from Cape Wind Associates, LLC (CWA) for a lease, easement or right-of-way to construct and operate a wind park located in Federal waters 4.7 miles offshore Cape Cod, Massachusetts. The purpose of this project is to provide a utility-scale wind energy facility providing power to the New England power grid. By this document, the MMS announces: (1) Its intention to prepare an EIS; (2) commencement of a 45-day written scoping period under the National Environmental Policy Act (NEPA); and (3) invitation for participation by interested cooperating agencies.

DATES: Comments must be received no later than July 14, 2006 in envelopes labeled “Comments on the Notice of Intent to Prepare an EIS for Proposed Cape Wind Project.” Further instructions on submitting comments is contained in Section 3 of the SUPPLEMENTARY INFORMATION below.

FOR FURTHER INFORMATION CONTACT: Dr. Rodney E. Cluck, Project Coordinator, at (703) 787-1087 in MMS's Headquarters office regarding questions on the NOI.

SUPPLEMENTARY INFORMATION

1. Background

In November 2001, CWA filed a permit application with the U.S. Army Corps of Engineers (USACE), New England District, under section 10 of the Rivers and Harbors Act of 1899, in anticipation of constructing a wind park located on Horseshoe Shoal in Nantucket Sound, Massachusetts. The proposed wind park would consist of 130 offshore wind turbine generators arranged to maximize the park's maximum potential electric output of approximately 454 megawatts. The wind-generated electricity from each of the turbines would be transmitted via a 33 kilovolt submarine transmission cable system to a centrally located electric service platform. This platform would transform and transmit electric power to the Cape Cod mainland (12+ miles) via two 115 kilovolt lines, where it would ultimately connect with the existing power grid.

The Energy Policy Act of 2005 was enacted on August 8, 2005, giving the Department of the Interior authority for issuing leases, easements, or rights-of-way for alternative energy projects on the Outer Continental Shelf (OCS). Since its establishment in 1982, the DOI's Minerals Management Service (MMS) has been responsible for management of oil, natural gas, and other mineral resource activities on offshore Federal lands. With the new authority in the Energy Policy Act of 2005, the MMS will now also manage the alternative energy-related uses on Federal OCS lands, act as a lead agency for coordinating the permitting process with other Federal agencies, and monitor and regulate those facilities used for alternative energy production and energy support services. As such, the MMS must comply with NEPA when considering the CWA application.

In addition to the MMS' analysis under NEPA, the Massachusetts Environmental Policy Act (MEPA) will apply to the project's upland and submarine cable system components in Nantucket Sound out to the 3-mile State/Federal boundary. In order to address all the environmental analyses in the most efficient manner, the State MEPA and Federal NEPA processes will run concurrently and be analyzed together, within the NEPA document.

General information on the MMS Renewable Energy and Alternate Use Program can be found at http://www.mms.gov/offshore/RenewableEnergy/RenewableEnergyMain.htm.

2. Solicitation of Comments and Issues Under This Notice of Intent

Pursuant to the regulations (40 CFR 1508.22) implementing the procedural provisions of the National Environmental Policy Act of 1969 (42 U.S.C. 4321 et seq.), the MMS is announcing its intent to prepare an EIS for the CWA project. The EIS analysis will focus on the potential environmental effects of the development, operations and decommissioning on the proposed action area and alternatives. This NOI also serves to announce the initiation of the written scoping process for this EIS. The scoping process allows Federal, State, tribal, and local governments and other interested parties to aid the MMS in determining the significant issues, potential alternatives, and mitigating measures to be analyzed in the EIS and the possible need for additional information. The MMS is considering potential alternatives to the proposed action such as: modifying the size of the development, phasing the development, reconfiguring the development, and considering alternative sites. These and any additional alternatives developed through the scoping and analytical processes will be considered in the decision process. Alternatives to be considered in the EIS include:

▪ Proposed Action.

▪ Phased installations and operations of wind turbine generators.

▪ Alternative locations.

1. South of Tuckernuck Island.

2. Nantucket Shoals.

3. Monomoy Shoals.

4. Deepwater Alternative—East of Nauset Beach.

▪ No Action.

3. Instructions on Notice of Intent

Federal, State, tribal, and local governments and other interested parties are requested to send their written comments on the scope of the EIS, significant issues that should be addressed, and potential alternatives and mitigating measures. Written comments will be accepted by mail or through the MMS Web site noted below. Comments are due no later than July 14, 2006.

Mailed comments should be enclosed in an envelope labeled, “Comments on the Notice of Intent to Prepare an EIS on the Cape Wind Project.” The MMS will also accept written comments submitted to our electronic public commenting system. This system can be accessed at http://www.mms.gov/offshore/RenewableEnergy/Projects.htm.

• Mail written comments to: Comments on the Notice of Intent to Prepare an EIS on the Cape Wind Project, Minerals Management Service, 381 Elden Street, Mail Stop 4042, Herndon, VA 20164.

Our practice is to make comments, including names and addresses of respondents, available for public review during regular business hours. Individual respondents may request that we withhold their address from the rulemaking record, which we will honor to the extent allowable by law. There also may be circumstances in which we would withhold a respondent's identity, as allowable by law. If you wish us to withhold your name and/or address, you must state this prominently at the beginning of your comment. However, we will not consider anonymous comments. We will make all submissions from organizations or businesses, and from individuals identifying themselves as representatives or officials of organizations or businesses, available for public inspection in their entirety.

4. Cooperating Agency

The Department of the Interior invites other Federal, State, tribal, and local governments to consider becoming cooperating agencies in the preparation of the EIS. We invite qualified government entities to inquire about cooperating agency status for the Cape Wind EIS. Under guidelines from the Council of Environmental Quality (CEQ), qualified agencies and governments are those with “jurisdiction by law or special expertise.” Potential cooperating agencies should consider their authority and capacity to assume the responsibilities of a cooperating agency and to remember that your role in the environmental analysis neither enlarges nor diminishes the final decisionmaking authority of any other agency involved in the NEPA process. Upon request, the MMS will provide potential cooperating agencies with a written summary of ground rules for cooperating agencies, including time schedules and critical action dates, milestones, responsibilities, scope and detail of cooperating agencies' contributions, and availability of pre-decisional information. You should also consider the “Factors for Determining Cooperating Agency Status” in Attachment 1 to CEQ's January 30, 2002, Memorandum for the Heads of Federal Agencies on Cooperating Agencies in Implementing the Procedural Requirements of the National Environmental Policy Act. A copy of this document is available at: http://ceq.eh.doe.gov/nepa/regs/cooperating/cooperatingagenciesmemorandum.html and http://ceq.eh.doe.gov/nepa/regs/cooperating/cooperatingagencymemofactors.html.

The MMS, as the lead agency, will not be providing financial assistance to cooperating agencies. Even if your organization is not a cooperating agency, you will continue to have opportunities to provide information and comments to the MMS during the normal public input phases of the NEPA/EIS process. The MMS will also consult with tribal governments on a Government-to-Government basis. If you would like further information about cooperating agencies, please contact Dr. Rodney E. Cluck, the MMS's Cape Wind project manager at 703-787-1087.

Current Cooperating Agencies on the Cape Wind project EIS include:

United States Fish and Wildlife Service.

Cape Cod Commission.

United States Department of Energy.

United States Coast Guard.

United States Department of the Interior/Office of Environmental Policy and Compliance.

Wampanoag Tribe of Gay Head.

Federal Aviation Administration.

Massachusetts Coastal Zone Management.

Massachusetts Environmental Policy Act Office.

National Oceans and Atmospheric Association/National Marine Fisheries Service.

United States Environmental Protection Agency.

United States Army Corps of Engineers.

Dated: April 26, 2006.
Chad Calvert,
Acting Assistant Secretary—Land and Minerals Management.

[FR Doc. E6-8216 Filed 5-26-06; 8:45 am]

BILLING CODE 4310-MR-P